POSTAL SERVICE

International Product Change—Removal of International Surface Air Lift

AGENCY: Postal Service.

ACTION: Notice.

SUMMARY: The Postal Service gives notice of the filing of a request with the Postal Regulatory Commission to remove International Surface Air Lift (ISAL) and two types of negotiated service agreement products that include ISAL from the Competitive Product List and to make accompanying classification changes in the Mail Classification Schedule.

DATES: Applicable date: January 18, 2026.

FOR FURTHER INFORMATION CONTACT: Christopher C. Meyerson, 202-268-7820.

SUPPLEMENTARY INFORMATION: The United States Postal Service hereby gives notice that, pursuant to 39 U.S.C. 3642 and 39 CFR 3040.130 et seq., as well as 39 U.S.C. 3632 and 39 CFR 3040.180 et seq., on September 5, 2025, it filed with the Postal Regulatory Commission a Request of the United States Postal Service to Remove International Surface Air Lift (ISAL) and Two Types of Negotiated Service Agreement Products that Include ISAL from the Competitive Product List and to Make Accompanying Classification Changes in the Mail Classification Schedule. Documents are available at www.prc.gov, Docket No. MC2025-1676.

Matthew W. Tievsky,
Attorney, Ethics and Legal Compliance.

[FR Doc. 2025-17792 Filed 9-15-25; 8:45 am]

BILLING CODE 7710-12-P